DEPARTMENT OF COMMERCE

National Oceanic and Atmospheric Administration

15 CFR Part 922

[Docket No. 070726412-1300-02]

RIN 0648-AV88

Research Area Within Gray's Reef National Marine Sanctuary; Notice of Effective Date

AGENCY: Office of National Marine Sanctuaries (ONMS), National Oceanic and Atmospheric Administration (NOAA), Department of Commerce (DOC).

ACTION: Notice of effective date.

SUMMARY: NOAA published a final rule for the establishment of a research area within the Gray's Reef National Marine Sanctuary on October 14, 2011 (76 FR 63824). Pursuant to Section 304(b) of the National Marine Sanctuaries Act (16 U.S.C. 1434(b)) the final regulations take effect after 45 days of continuous session of Congress beginning on October 14, 2011. Through this notice, NOAA is announcing the regulations became effective on December 4, 2011.

DATES: Effective Date: The regulations published on October 14, 2011 (76 FR 63824) are effective on December 4, 2011.

FOR FURTHER INFORMATION CONTACT: Resource Protection Coordinator Becky Shortland at (912) 598-2381.

Dated: December 5, 2011.
Holly A. Bamford,
Deputy Assistant Administrator for Ocean Services and Coastal Zone Management.

[FR Doc. 2011-31918 Filed 12-13-11; 8:45 am]

BILLING CODE 3510-NK-M